SMALL BUSINESS ADMINISTRATION

[Disaster Declaration #20987 and #20988; ILLINOIS Disaster Number IL-20012]

Administrative Declaration of a Disaster for the State of Illinois

AGENCY: U.S. Small Business Administration.

ACTION: Notice.

SUMMARY: This is a notice of an Administrative declaration of a disaster for the State of Illinois dated March 13, 2025.

Incident: Tatra Multi-Family Apartment Complex Fire.

DATES: Issued on March 13, 2025.

Incident Period: January 25, 2025.

Physical Loan Application Deadline Date: May 12, 2025.

Economic Injury (EIDL) Loan Application Deadline Date: December 15, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given, as a result of the Administrator's disaster declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Cook

Contiguous Counties:

Illinois: DuPage, Kane, Lake, McHenry, Will

Indiana: Lake

The Interest Rates are:

| Percent
For Physical Damage:
Homeowners with Credit Available Elsewhere | 5.125
Homeowners without Credit Available Elsewhere | 2.563
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 209875 and for economic injury is 209880.

The States which received an EIDL Declaration are Illinois, Indiana.

(Catalog of Federal Domestic Assistance Number 59008)

James Stallings,
Associate Administrator, Office of Disaster Recovery & Resilience.

[FR Doc. 2025-04573 Filed 3-18-25; 8:45 am]

BILLING CODE 8026-09-P